DEPARTMENT OF COMMERCE

National Institute of Standards and Technology

[Docket No.: 230612-0147]

Draft Plan for Providing Public Access to the Results of Federally Funded Research

AGENCY: National Institute of Standards and Technology, Department of Commerce.

ACTION: Notice; request for public comment.

SUMMARY: The National Institute of Standards and Technology seeks comments on the Draft NIST Plan for Providing Public Access to the Results of Federally Funded Research. NIST is taking steps to make its scientific data and publications more readily available and accessible by the public, as directed in an August 2022 memorandum from the Office of Science and Technology Policy. The NIST Public Access Plan applies to the results of research funded wholly or in part by NIST, presented in peer-reviewed scholarly publications and as research data. This document outlines NIST's plan for implementing new requirements to manage the public access of scientific data and publications. Public comments received on the NIST Public Access Plan will inform NIST as it revises its existing directives to implement the updated Plan.

DATES: Responses must be received by 11:59 p.m. Eastern Time on August 14, 2023 to be considered.

ADDRESSES: Comments may be submitted by either of the following methods:

• Electronic submission: Submit electronic public comments via the Federal eRulemaking Portal.

1. Go to www.regulations.gov and enter NIST-2023-0002 in the search field.

2. Click the “Comment Now!” icon, complete the required fields.

3. Enter or attach your comments.

• By email: Comments in electronic form may also be sent to public-access@nist.gov in any of the following formats: HTML, ASCII, Word, RTF, or PDF.

• By post: Comments may be sent by mail to Katherine Sharpless, NIST, 100 Bureau Drive, Stop 4701, Gaithersburg, MD 20899-4701.

Please submit comments only and include your name, organization's name (if any), and cite “NIST Public Access Plan” in all correspondence. Comments containing references, studies, research, and other empirical data that are not widely published should include copies of the referenced materials.

All comments responding to this document will be a matter of public record. Relevant comments will generally be available on the Federal eRulemaking Portal at https://www.Regulations.gov and, after the comment period closes, on NIST's website at https://www.nist.gov/open. NIST will not accept comments accompanied by a request that part or all of the material be treated confidentially because of its business proprietary nature or for any other reason. Therefore, do not submit confidential business information or otherwise sensitive, protected, or personal information, such as account numbers, Social Security numbers, or names of other individuals.

FOR FURTHER INFORMATION CONTACT: For questions about this notice contact: Katherine Sharpless, Open Access Officer, email address katherine.sharpless@nist.gov, (301) 975-3121. Please direct media inquiries to NIST's Office of Public Affairs at (301) 975-2762.

SUPPLEMENTARY INFORMATION: The National Institute of Standards and Technology (NIST) is one of our Nation's oldest Federal laboratories (for more information, visit www.nist.gov). A bureau in the Department of Commerce, the NIST mission is to promote U.S. innovation and industrial competitiveness by advancing measurement science, standards, and technology in ways that enhance economic security and improve our quality of life. From early electrical measurement research to today's quantum information science, NIST has long been, and continues to be, a center for high-impact research meeting the needs of academia, industry, and government. The NIST laboratories conduct world-class research, often in close collaboration with industry, which advances the nation's technology infrastructure and helps U.S. companies continually improve products and services.

NIST publishes this notice to seek comments on the Draft NIST Plan for Providing Public Access to Results of Federally Funded Research, posted at www.nist.gov/open. NIST developed a public access plan in response to the February 22, 2013, Office of Science and Technology Policy (OSTP) memorandum Increasing Access to the Results of Federally Funded Scientific Research and several White House memoranda (i.e., Office of Management and Budget memoranda M-10-06 Open Government Directive and M-13-13 Open Data Policy—Managing Information as an Asset. NIST policy was developed from that original plan; NIST's public access policy has been operational since 2015. NIST's original plan and the resultant policy ensured that the integrity of NIST data are maintained throughout their life cycle and increased the visibility of NIST measurements, standards, technology, and research activities.

On August 25, 2022, OSTP issued a new public access memorandum, Ensuring Free, Immediate, and Equitable Access to Federally Funded Research). In response to OSTP's 2022 memo, NIST is taking new steps to make its scientific data and publications more readily available and accessible by the public.

The Draft NIST Plan for Providing Public Access to the Results of Federally Funded Research applies to the results of research funded wholly or in part by NIST, presented in peer-reviewed scholarly publications and as research data. The document outlines NIST's plan to manage public access to research data and publications in accordance with new recommendations of the 2022 OSTP memo, including the removal of embargo periods for access to publications resulting from NIST-funded work, requiring immediate release of data associated with narrative publications, inclusion of available persistent identifiers in publications, and emphasis on the need for accessibility to users who have disabilities through provision of machine-readable publications. The NIST Public Access Plan was reviewed by the Office of Science and Technology Policy and the Office of Management and Budget, and those comments have been addressed in the plan being posted for comment.

NIST invites respondents to comment on the following questions that pertain to the implementation NIST's updated public access plan:

• How can NIST ensure equity in publication opportunities?

• How can NIST ensure public access and accessibility to outputs of NIST-funded research?

• How can NIST monitor impacts on affected communities—authors and readers alike?

• How can NIST improve the plan to provide greater public access to NIST-funded research results?

Comments relating to the text of the Draft NIST Plan for Providing Public Access to the Results of Federally Funded Research should reference the document by page and line number. All comments must be received in accordance with the DATES and ADDRESSES sections of the notice above.

Alicia Chambers,
NIST Executive Secretariat.

[FR Doc. 2023-13866 Filed 6-29-23; 8:45 am]

BILLING CODE 3510-13-P